DEPARTMENT OF HEALTH AND HUMAN SERVICES

Centers for Medicare & Medicaid Services

42 CFR Parts 414, 416, and 419

[CMS-1678-CN]

RIN 0938-AT03

Medicare Program: Hospital Outpatient Prospective Payment and Ambulatory Surgical Center Payment Systems and Quality Reporting Programs

Correction

In rule document 2017-27949 appearing on pages 61184-61190 in the issue of Wednesday, December 27, 2017 make the following correction:

On page 61188, in the first column, the thirteenth through fifteenth lines following the table titled “Table 54”, should read as follows:

“11. On page 59375, second column, third full paragraph, in line 7, correct “CCR ≤5” to read “CCR >5”.”

[FR Doc. C1-2017-27949 Filed 1-30-18; 8:45 am]

BILLING CODE 4120-01-P